DEPARTMENT OF HEALTH AND HUMAN SERVICES

Public Health Service

National Institute of Environmental Health Sciences (NIEHS); National Toxicology Program (NTP); Biennial Progress Report of the Interagency Coordinating Committee on the Validation of Alternative Methods (ICCVAM): Notice of Availability

Summary

Notice is hereby given of the availability of the report entitled, “Biennial Progress Report of the Interagency Coordinating Committee on the Validation of Alternative Methods (ICCVAM).” In accordance with requirements of the ICCVAM Authorization Act of 2000 (Pub. L. 106-545), this report provides a description of the activities that have been carried out during the past two years by ICCVAM and the NTP Interagency Center on the Evaluation of Alternative Toxicological Methods (NICEATM).

Availability of the Report

To receive a copy of the report, please contact NICEATM at P.O. Box 12233, MD EC-17, Research Triangle Park, NC 27709 (mail), 919-541-2384 (phone), 919-541-0947 (fax), or niceatm@niehs.nih.gov (e-mail). The report is also available on the ICCVAM/NICEATM Web site at: http://iccvam.niehs.nih.gov.

Background

The ICCVAM was formally authorized and designated as a permanent committee by the ICCVAM Authorization Act of 2000, which was signed into law by the President on December 19, 2000. ICCVAM's duties include the technical evaluation of new and alternative testing methods, development of test recommendations based on those technical evaluations, and forwarding recommendations to Federal agencies for their consideration. The ICCVAM also coordinates interagency issues on toxicological test method development, validation, regulatory acceptance, and national and international harmonization. The ICCVAM Authorization Act of 2000 directs ICCVAM to prepare biennial reports on its progress and to make these available to the public. Information about ICCVAM can be found on the Internet at: http://iccvam.niehs.nih.gov/.

Dated: February 16, 2004.
Kenneth Olden,
Director, National Institute of Environmental Health Sciences.

[FR Doc. 04-3528 Filed 2-18-04; 8:45 am]

BILLING CODE 4140-01-P